NATIONAL SCIENCE FOUNDATION

Business and Operations Advisory Committee; Notice of Meeting

In accordance with Federal Advisory Committee Act (Pub. L. 92-463, as amended), the National Science Foundation (NSF) announces the following meeting:

NAME AND COMMITTEE CODE: Business and Operations Advisory Committee (9556).

DATE AND TIME:

December 9, 2019; 1:00 p.m. to 5:30 p.m. (EST).

December 10, 2019; 8:00 a.m. to 12:00 p.m. (EST).

PLACE: National Science Foundation, 2415 Eisenhower Avenue, Alexandria, Virginia 22314; Room E 3410.

TYPE OF MEETING: Open.

CONTACT PERSON: Joan Miller, National Science Foundation, 2415 Eisenhower Avenue, Alexandria, VA 22314; (703) 292-8200.

PURPOSE OF MEETING: To provide advice concerning issues related to the oversight, integrity, development and enhancement of NSF's business operations.

Agenda

Monday, December 9, 2019; 1:00 p.m.-5:30 p.m.

Welcome/Introductions; BFA/OIRM/OLPA/Budget Updates; Results from the 2019 Federal Employee Viewpoint Survey; Balancing Mission, Risk and Compliance; Meeting with Dr. Crim.

Tuesday, December 10, 2019; 8:00 a.m.-12:00 p.m.

NSF's Leadership Development Program; CFO Office of Tomorrow—Part 2; State of the BOAC; CEOSE Update; Committee Business/Wrap Up.

Dated: November 14, 2019.
Crystal Robinson,
Committee Management Officer.

[FR Doc. 2019-25062 Filed 11-18-19; 8:45 am]

BILLING CODE 7555-01-P